ENVIRONMENTAL PROTECTION AGENCY

40 CFR Part 52

[EPA-R05-OAR-2012-0073; FRL 9677-3]

Approval and Promulgation of Air Quality Implementation Plans; Illinois; Small Container Exemption From VOC Coating Rules

AGENCY: Environmental Protection Agency (EPA).

ACTION: Withdrawal of direct final rule.

SUMMARY: Due to the receipt of an adverse comment, EPA is withdrawing the April 16, 2012, direct final rule approving a revision to the Illinois State Implementation plan (SIP). EPA will address the comment in a subsequent final action based upon the proposed rulemaking action, also published on April 16, 2012. EPA will not institute a second comment period on this action.

DATES: The direct final rule published at 77 FR 22497 on April 16, 2012, is withdrawn as of May 30, 2012.

FOR FURTHER INFORMATION CONTACT: Steven Rosenthal, Environmental Engineer, Attainment Planning and Maintenance Section, Air Programs Branch (AR-18J), Environmental Protection Agency, Region 5, 77 West Jackson Boulevard, Chicago, Illinois 60604, (312) 886-6052, rosenthal.steven@epa.gov.

SUPPLEMENTARY INFORMATION: EPA is withdrawing the April 16, 2012 (77 FR 22497), direct final rule approving a revision to the Illinois SIP that added a “small container exemption” for pleasure craft surface coating operations in the Chicago and Metro-East St. Louis 8-hour ozone nonattainment areas. In the direct final rule, EPA stated that if adverse comments were received by May 16, 2012, the rule would be withdrawn and not take effect. On April 16, 2012, EPA received a comment, which it interprets as adverse and, therefore, EPA is withdrawing the direct final rule. EPA will address the comment in a subsequent final action based upon the proposed rulemaking action, also published on April 16, 2012 (77 FR 22550). EPA will not institute a second comment period on this action.

List of Subjects in 40 CFR Part 52

Environmental protection, Air pollution control, Incorporation by reference, Intergovernmental relations, Volatile organic compounds.

Authority: 42 U.S.C. 7401 et seq.

Dated: May 14, 2012.
Susan Hedman,
Regional Administrator, Region 5.

PART 52—[AMENDED]

Accordingly, the amendment to 40 CFR 52.720 published in the Federal Register on April 16, 2012 (77 FR 22497) on page 22500 is withdrawn as of May 30, 2012.

[FR Doc. 2012-12507 Filed 5-29-12; 8:45 am]

BILLING CODE 6560-50-P-